NUCLEAR REGULATORY COMMISSION

10 CFR Part 50

[NRC-2021-0194]

Guidance for Implementation of 10 CFR 50.59, “Changes, Tests and Experiments,” at Non-Power Production or Utilization Facilities

AGENCY: Nuclear Regulatory Commission.

ACTION: Draft regulatory guide; request for comment.

SUMMARY: The U.S. Nuclear Regulatory Commission (NRC) is issuing for public comment a draft regulatory guide (DG), DG-2007, “Guidance for Implementation of 10 CFR 50.59, “Changes, Tests and Experiments,” at Non-power Production or Utilization Facilities.” This DG describes an approach that is acceptable to the NRC staff to meet the regulatory requirements “Changes, tests and experiments,” at a nonpower production and utilization facility (NPUF), as defined in the DG.

DATES: Submit comments by December 23, 2021. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods; however, the NRC encourages electronic comment submission through the Federal rulemaking website:

• Federal Rulemaking Website: Go to https://www.regulations.gov and search for Docket ID NRC-2021-0194. Address questions about Docket IDs in Regulations.gov to Stacy Schumann; telephone: 301-415-0624; email: Stacy.Schumann@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Michael Eudy, Office of Nuclear Regulatory Research, telephone: 301-415-3104, email: Michael.Eudy@nrc.gov and Duane Hardesty, Office of Nuclear Reactor Regulation, telephone: 301-415-3724, email: Duane.Hardesty@nrc.gov. Both are staff of the U.S. Nuclear Regulatory Commission, Washington, DC 20555-0001.

SUPPLEMENTARY INFORMATION:

I. Obtaining Information and Submitting Comments

A. Obtaining Information

Please refer to Docket ID NRC-2021-0194 when contacting the NRC about the availability of information for this action. You may obtain publicly available information related to this action by any of the following methods:

• Federal Rulemaking Website: Go to https://www.regulations.gov and search for Docket ID NRC-2021-0194.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov.

• NRC's PDR: You may examine and purchase copies of public documents, by appointment, at the NRC's Public Document Room (PDR), Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

B. Submitting Comments

The NRC encourages electronic comment submission through the Federal rulemaking website (https://www.regulations.gov). Please include Docket ID NRC-2021-0194 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Additional Information

The NRC is issuing for public comment a DG in the NRC's “Regulatory Guide” series. This series was developed to describe methods that are acceptable to the NRC staff for implementing specific parts of the agency's regulations, to explain techniques that the staff uses in evaluating specific issues or postulated events, and to describe information that the staff needs in its review of applications for permits and licenses.

The DG, entitled “Guidance for Implementation of 10 CFR 50.59, “Changes, Tests and Experiments,” at Non-power Production or Utilization Facilities,” is temporarily identified by its task number, DG-2007 (ADAMS Accession No. ML21243A103).

This DG, if finalized, would describe an approach that is acceptable to the staff of the NRC to meet the regulatory requirements of § 50.59 of title 10 of the Code of Federal Regulations (10 CFR) at NPUFs, as defined in the DG. It would endorse, with clarifications and an exception, Nuclear Energy Institute (NEI) 21-06, “Guidelines for 10 CFR 50.59 Implementation at Non-power Production and Utilization Facilities,” issued August 2021 (ADAMS Accession No. ML21236A089).

The staff is also issuing for public comment a draft regulatory analysis (ADAMS Accession No. ML21243A104) for DG-1389. The staff developed the regulatory analysis to assess the value of issuing DG-2007 as well as alternative courses of action.

III. Backfitting, Forward Fitting, and Issue Finality

The issuance of this DG, if finalized, would not constitute backfitting, as that term is defined in 10 CFR 50.109, “Backfitting,” because § 50.109 does not apply to research reactors, testing facilities, and other non-power facilities licensed under 10 CFR part 50, as documented in the preamble to the proposed rule, “Non-Power Production or Utilization Facility License Renewal” (82 FR 15643; March 30, 2017).

Dated: November 15, 2021.
For the Nuclear Regulatory Commission.
Meraj Rahimi,
Chief, Regulatory Guide and Programs Management Branch, Division of Engineering, Office of Nuclear Regulatory Research.

[FR Doc. 2021-25260 Filed 11-22-21; 8:45 am]

BILLING CODE 7590-01-P